DEPARTMENT OF HEALTH AND HUMAN SERVICES

National Institutes of Health

Submission for OMB Review; Comment Request; Case-Cohort Study of Cancer and Related Disorders Among Benzene-Exposed Workers in China (OMB No. 0925-0454)

SUMMARY: In compliance with the requirement of section 3506(c)(2)(A) of the Paperwork Reduction Act of 1995, for the opportunity for public comment on the proposed data collection projects, the National Cancer Institute (NCI), the National Institutes of Health (NIH) will publish periodic summaries of proposed projects to be submitted to the Office of Management and Budget (OMB) for review and approval.

Proposed Collection

Title: Case-Cohort Study of Cancer and Related Disorders Among Benzene-Exposed Workers in China.

Type of Information Collection: Revised.

Need and Use of Information: A case-cohort study will examine the relationship between exposure to benzene and the risk of lymphohematopoietic malignancies and related disorders, benzene poisoning, and lung cancer in Chinese workers. Cases and controls will be selected from participants in a cohort study of benzene-exposed and unexposed workers in China. The data will be used by NCI to examine risk among workers exposed at low levels of benzene exposure, and to characterize the dose and time-specific relationship between benzene exposure and disease risk.

Frequency of Response: One-time study.

Affected Public: Individuals or households.

Type of Respondents: Workers.

The annual reporting burden is as follows:

Estimated Number of Respondents: 2156.

Estimated Number of Responses per Respondent: One.

Average Burden Hours per Response: 0.37

Estimated Total Annual Burden Hours Requested: 317.

There are no Capital Costs to report. There are also no Operating and/or Maintenance Costs to report.

Request for Comments: Written comments and/or suggestions from the public and affected agencies are invited on one or more of the following points: (1) Whether the proposed collection or information is necessary for the proper performance of the function of the agency, including whether the information will have practical utility; (2) the accuracy of the agency's estimate of the burden of the proposed collection of information, including the validity of the methodology and assumptions used; (3) ways to enhance the quality, utility, and clarity of the information to be collected; (4) ways to minimize the burden of the collection of information on those who are to respond, including the use of appropriate automated, electronic, mechanical, or other technological collection techniques or other forms of information technology.

FOR FURTHER INFORMATION CONTACT: To request more information on the proposed project or to obtain a copy of the data collection plans and instruments, contact: Dr. Richard Hayes, Project Officer, OEB/EBP/DCEG/NCI 6120 Executive Blvd., EPS Room 8114, Bethesda, MD 20892-7364, or call non-toll-free number 301-435-3974 or fax your request to 301-402-1819 or e-mail your request, including your address to: HayesR@mail.nih.gov.

Comments Due Date: Comments regarding this information collection are best assured of having their full effect if received within 60 days of the date of this publication.

Dated: July 13, 2004.
Rachelle Ragland Greene,
NCI Project Clearance Liaison, National Institutes of Health.

[FR Doc. 04-16517 Filed 7-20-04; 8:45 am]

BILLING CODE 4140-01-M